DEPARTMENT OF VETERANS AFFAIRS

[OMB Control No. 2900-0386]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden and includes the actual data collection instrument.

DATES: Comments must be submitted on or before May 22, 2006.

FOR FURTHER INFORMATION CONTACT: Denise McLamb, Records Management Service (005E3), Department of Veterans Affairs, 810 Vermont Avenue, NW., Washington, DC 20420, (202) 565-8374, fax (202) 565-6950 or e-mail: denise.mclamb@mail.va.gov. Please refer to “OMB Control No. 2900-0386.” Send comments and recommendations concerning any aspect of the information collection to VA's OMB Desk Officer, OMB Human Resources and Housing Branch, New Executive Office Building, Room 10235, Washington, DC 20503 (202) 395-7316. Please refer to “OMB Control No. 2900-0386” in any correspondence.

SUPPLEMENTARY INFORMATION:

Title: Interest Rate Reduction Refinancing Loan Worksheet, VA Form 26-8923.

OMB Control Number: 2900-0386.

Type of Review: Extension of a currently approved collection.

Abstract: Title 38 U.S.C. 3729(a) requires VA to collect a funding fee in connection with guaranteed or direct loans. The fee is payable for both home and manufactured home loans. To be eligible for the guaranty, lenders must submit VA Form 26-8923, and VA Form 26-1820, Report and Certification of Loan Disbursement when requesting a guaranty on an interest rate reduction refinancing loan and provide a receipt as proof that the funding fee was paid or evidence that the claimant is exempt from such fee. VA uses the data collected to ensure lenders correctly compute the funding fee and the maximum permissible loan amount for interest rate reduction refinancing loans.

An agency may not conduct or sponsor, and a person is not required to respond to a collection of information unless it displays a currently valid OMB control number. The Federal Register Notice with a 60-day comment period soliciting comments on this collection of information was published on January 19, 2006 at page 3156.

Affected Public: Business or other for profit.

Estimated Annual Burden: 6,667 hours.

Estimated Average Burden Per Respondent: 10 minutes.

Frequency of Response: On occasion.

Estimated Number of Total Respondents: 40,000.

Dated: April 4, 2006.
By direction of the Secretary.
Denise McLamb,
Program Analyst, Records Management Service.

[FR Doc. E6-5894 Filed 4-19-06; 8:45 am]

BILLING CODE 8320-01-P